DEPARTMENT OF HEALTH AND HUMAN SERVICES

Centers for Disease Control and Prevention

World Trade Center Health Program Scientific/Technical Advisory Committee; Amended Notice of Solicitation of Nominations

AGENCY: Centers for Disease Control and Prevention, Department of Health and Human Services (HHS).

ACTION: Notice.

SUMMARY: The Centers for Disease Control and Prevention (CDC), within the Department of Health and Human Services (HHS), is seeking nominations for membership on the World Trade Center (WTC) Health Program Scientific/Technical Advisory Committee (WTCHP-STAC), in accordance with provisions of the James Zadroga 9/11 Health and Compensation Act of 2010. The WTCHP-STAC consists of 17 members including experts in fields associated with occupational medicine, pulmonary medicine, environmental medicine, environmental health, industrial hygiene, epidemiology, toxicology, and mental health, and representatives of WTC responders as well as representatives of certified-eligible WTC survivors.

SUPPLEMENTARY INFORMATION: Notice is hereby given of a change in the solicitation of nominations for appointment to the World Trade Center Health Program Scientific/Technical Advisory Committee (WTCHP-STAC).

The solicitation of nominations notice was published in the Federal Register on October 6, 2023, 88 FR 69636-69637.

The solicitation notice is being amended to extend the deadline for submission of nominations from November 20, 2023, in the original Federal Register notice, to December 30, 2023. The notice should read as follows:

DATES: Nominations for membership on the STAC must be received no later than December 30, 2023. Packages received after this time will not be considered for the current membership cycle.

ADDRESSES: All nominations should be mailed to NIOSH Docket 229-K, c/o Ms. Mia Wallace, Committee Management Specialist, National Institute for Occupational Safety and Health (NIOSH), Centers for Disease Control and Prevention, 1600 Clifton Road NE, Mailstop V24-4, Atlanta, Georgia 30329-4027, or emailed to nioshdocket@cdc.gov.

FOR FURTHER INFORMATION CONTACT: Tania Carreón-Valencia, Ph.D., M.S., Designated Federal Officer, World Trade Center Health Program Scientific/Technical Advisory Committee, Centers for Disease Control and Prevention, 1600 Clifton Road NE, Mailstop R-12, Atlanta, Georgia 30329-4027. Telephone: (513) 841-4515 (this is not a toll-free number); Email: TCarreonValencia@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-26039 Filed 11-24-23; 8:45 am]

BILLING CODE 4163-18-P